DEPARTMENT OF ENERGY

Federal Energy Regulatory Commission

[Docket No. ER00-803-001, et al.]

PECO Energy Company, et al.; Electric Rate and Corporate Regulation Filings

January 29, 2001.

Take notice that the following filings have been made with the Commission:

1. PECO Energy Company

[Docket No. ER00-803-001]

Take notice that on January 25, 2001, PECO Energy Company (PECO) submitted a compliance filing consisting of corrected sheets to an Interconnection Agreement between PECO and the joint owners of the Peach Bottom Atomic Power Station designated as PECO's Rate Schedule FERC No. 134, to be effective on 12 January 2001. Copies of this filing were served on the joint owners of the generating facility, the Pennsylvania Public Utility Commission and parties on the service list in this docket.

Comment date: February 15, 2001, in accordance with Standard Paragraph E at the end of this notice.

2. San Diego Gas & Electric Company

[Docket No. ER01-322-001]

Take notice that on January 24, 2001, San Diego Gas & Electric Company filed with the Federal Energy Regulatory Commission (Commission) a refund report in compliance with the Commission's order dated December 29, 2000 (93 FERC ¶ 61,333).

Comment date: February 14, 2001, in accordance with Standard Paragraph E at the end of this notice.

3. Consumers Energy Company and Michigan Electric Transmission Company

[Docket No. ER01-414-001]

Take notice that on January 23, 2001, Michigan Electric Transmission Company (Michigan Transco) tendered for filing the following tariff sheets as part of its FERC Electric Tariff, Original Volume No. 1 in compliance with the January 10, 2001 order issued in this proceeding:

Sub Original Sheet Nos. 117, 122, 130 through 135, 139, 141, 142, 143 and 153 and Original Sheet Nos. 117A, 135A, 139A and 153A.

Copies of the filing were served upon the Michigan Public Service Commission and upon those on the official service list in this proceeding.

Comment date: February 13, 2001, in accordance with Standard Paragraph E at the end of this notice.

4. Reliant Energy Aurora, LP

[Docket No. ER01-687-001]

Take notice that on January 25, 2000, Reliant Energy Aurora, LP (Reliant Aurora) tendered for filing its FERC Electric Rate Schedule No. 1 authorizing Reliant Aurora to make sales at market-based rates.

Comment date: February 15, 2001, in accordance with Standard Paragraph E at the end of this notice.

5. Commonwealth Edison Company

[Docket No. ER01-715-001]

Take notice that on January 25, 2001, Commonwealth Edison Company (ComEd) tendered for filing an amendment to its December 19, 2000, filing of a Firm Transmission Service Agreement (Agreement) supplemented by Network Upgrade Agreement with Wisconsin Electric Power Company (WEP) and two firm Agreements with Commonwealth Edison Company, in its wholesale merchant function (WMD) in the above-referenced proceeding.

The errata notice does not affect the effective dates requested by ComEd in the above-referenced proceeding.

Comment date: February 15, 2001, in accordance with Standard Paragraph E at the end of this notice.

6. WPS Resources Operating Companies

[Docket No. ER01-1040-000]

Take notice that on January 24, 2001, WPS Resources Operating Companies (WPSR) filed a revised executed service agreement with Washington Island Electric Cooperative (Washington Island) for ancillary services and distribution service under WPSR's open access transmission tariff, FERC Electric Tariff, First Revised Volume No. 1 (OATT).

WPSR requests a January 1, 2001 effective date.

Copies of the filing were served upon Washington Island, the Michigan Public Service Commission and the Public Service Commission of Wisconsin.

Comment date: February 14, 2001, in accordance with Standard Paragraph E at the end of this notice.

7. Tucson Electric Power Company

[Docket No. ER01-1042-000]

Take notice that on January 23, 2001, Tucson Electric Power Company tendered for filing one (1) umbrella service agreement (for short-term firm service) and one (1) service agreement (for non-firm service) pursuant to Part II of Tucson's Open Access Transmission Tariff, which was filed in Docket No. ER00-771-000.

The details of the service agreements are as follows:

Umbrella Agreement for Short-Term Firm Point-to-Point Transmission Service dated as of January 3, 2001 by and between Tucson Electric Power Company and Tractebel Energy Marketing, Inc.—FERC Electric Tariff Vol. No. 2, Service Agreement No. 149. No service has commenced at this time.

Form of Service Agreement for Non-Firm Point-to Point Transmission Service dated as of January 3, 2001 by and between Tucson Electric Power Company and Tractebel Energy Marketing, Inc.—FERC Electric Tariff Vol. No. 2, Service Agreement No. 150. No service has commenced at this time.

Comment date: February 14, 2001, in accordance with Standard Paragraph E at the end of this notice.

8. South Carolina Electric & Gas Company

[Docket No. ER01-1043-000]

Take notice that on January 24, 2001, South Carolina Electric & Gas Company (SCE&G) filed a network integration transmission service agreement between SCE&G and Southeastern Power Administration (SPA).

SCE&G states that a copy of the filing was served on SPA.

Comment date: February 14, 2001, in accordance with Standard Paragraph E at the end of this notice.

9. Riverside Generating Company, L.L.C.

[Docket No. ER01-1044-000]

Take notice that on January 24, 2001, Riverside Generating Company, L.L.C. (Riverside) tendered for filing pursuant to Rule 205, 18 CFR 385.205, a petition for waivers and blanket approvals under various regulations of the Commission and for an order accepting its FERC Electric Tariff No. 1 to become effective as of the date specified by the Federal Energy Regulatory Commission.

Riverside intends to sell electric power at wholesale at rates, terms, and conditions to be mutually agreed to with the purchasing party. Riverside's tariff provides for the sale of electric energy and capacity at agreed prices.

Comment date: February 14, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-2920 Filed 2-2-01; 8:45 am]

BILLING CODE 6717-01-P